FEDERAL COMMUNICATIONS COMMISSION

47 CFR Part 73

[DA 24-174; MB Docket No. 23-209; RM-11951, 11971; FR ID 205738]

Radio Broadcasting Services; Lihue and Princeville, Hawaii

AGENCY: Federal Communications Commission.

ACTION: Final rule.

SUMMARY: This document amends the Table of FM Allotments, of the Federal Communications Commission's (Commission) rules, by allotting FM Channel 296A at Lihue, Hawaii, as the community's sixth local service and FM Channel 236C3 at Princeville, Hawaii, as the community's first local service. The staff engineering analysis indicates that Channel 296A at Lihue can be allotted consistent with the minimum distance separation requirements of the Commission's rules with a site restriction of 2.5 kilometers (1.6 miles) north of the community at reference coordinates 22-00-00 NL and 159-21-00 WL and Channel 236C3 at Princeville can be allotted consistent with the minimum distance separation requirements of the Commission's rules with no site restriction at reference coordinates 22-12-00 NL and 159-30-00 WL.

DATES: Effective April 11, 2024.

FOR FURTHER INFORMATION CONTACT: Rolanda F. Smith, Media Bureau, (202) 418-2054, Rolanda-Faye.Smith@fcc.gov.

SUPPLEMENTARY INFORMATION: This is a synopsis of the Commission's Report and Order, MB Docket No. 23-209, adopted February 26, 2024, and released February 26, 2024. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Hawaii by adding in alphabetical order entries for “Lihue” and “Princeville” to read as follows:

§ 73.202 Table of Allotments.

* * * * *

(b) Table of FM Allotments.

Table 1 to Paragraph (b)
U.S. States | Channel No.
* * * * *
Hawaii
* * * * *
Lihue | 296A
Princeville | 236C3
* * * * *

[FR Doc. 2024-04405 Filed 3-1-24; 8:45 am]

BILLING CODE 6712-01-P